DEPARTMENT OF AGRICULTURE

Farm Service Agency

Temporary Storage for Grain Warehouse Operators Licensed Under the United States Warehouse Act

AGENCY: Farm Service Agency, USDA.

ACTION: Notice.

SUMMARY: The Farm Service Agency (FSA) announces, for the 2006 crops of wheat, corn, and grain sorghum, the conditions under which temporary storage space may be licensed under the United States Warehouse Act (USWA).

DATES: August 14, 2006.

FOR FURTHER INFORMATION CONTACT: Roger Hinkle, USWA Program Manager, USDA, Farm Service Agency, Warehouse and Inventory Division, 1400 Independence Avenue, SW., STOP 0553, Washington, DC 20250-0553; Telephone (202) 720-7433; Electronic mail: Roger.Hinkle@wdc.usda.gov. Persons with disabilities who require alternative means for communication for regulatory information (Braille, large print, audiotape, etc.) should contact USDA's TARGET Center at (202) 720-2600 (voice and TDD).

SUPPLEMENTARY INFORMATION:

Background

The 2006 grain harvest is expected to exceed available commercial grain storage space in certain areas. USWA grain licensees may request, through FSA, licensing of temporary grain storage space under the USWA (7 U.S.C. 241 et. seq.) under the terms announced in this notice.

Temporary Grain Storage Requirements

Upon written application, the USWA will continue to authorize and license the use of temporary grain storage space. Such space may be used from the time of initial licensing until July 1, 2007. Temporary grain storage structures must be operated in conjunction with a USWA-licensed grain warehouse.

In addition:

1. An asphalt, concrete, or other approved base material must be used.

2. Rigid self-supporting sidewalls must be used.

3. Aeration must be provided.

4. Acceptable covering, as determined by FSA, must be provided.

5. Grain must be fully insured for all losses.

6. Warehouse operators must meet all financial and bonding requirements of the USWA.

7. Warehouse operators must maintain a separate record of all grain stored in temporary grain storage space and must account for such grain in the Daily Position Record.

Application for Temporary Grain Storage

USWA licensees should direct questions regarding the use of temporary grain storage to Terry Chapman, Chief, Licensing Branch, Warehouse License and Examination Division, at: Kansas City Commodity Office, Mail Stop 9148, P.O. Box 419205, Kansas City, MO 64141-6205. Telephone: 816-926-6474; Facsimile: 816-926-1774, E-mail: terry.chapman@kcc.usda.gov.

Warehouse Operator's Liability

The authorization and licensing of temporary grain storage space does not relieve warehouse operators of their obligations under the USWA or 7 CFR part 735.

Warehouse operators are responsible for the quantity and quality of grain stored in temporary grain storage space to the same extent as their liability for licensed grain storage space. All grain stored in temporary grain storage space is considered a part of the warehouse operator's commingled grain inventory.

The Department of Agriculture strongly recommends that warehouse operators review their warehouse security plans and conduct a prudent risk assessment in connection with the application of temporary grain storage space. Warehouse operators may want to pay particular attention to threats that may not have been considered significant in the past and consider restricting access to facilities to authorized personnel only.

Limitation

Licensing of temporary grain storage is limited to wheat, corn, and grain sorghum.

Signed in Washington, DC on July 31, 2006.
Teresa C. Lasseter,
Administrator, Farm Service Agency.

[FR Doc. E6-13223 Filed 8-11-06; 8:45 am]

BILLING CODE 3410-05-P